DEPARTMENT OF THE INTERIOR

Bureau of Land Management

[LLAZC02000.L51010000.FX0000.LVRWA09A2590; AZA34666]

Notice of Availability of the Record of Decision for the Quartzsite Solar Energy Project, AZ

AGENCY: Bureau of Land Management, Interior.

ACTION: Notice of Availability.

SUMMARY: The Bureau of Land Management (BLM) announces the availability of the Record of Decision (ROD) to grant rights-of-way (ROWs) and approve an amendment to the BLM's Yuma Field Office Resource Management Plan (RMP) for the Quartzsite Solar Energy Project (QSEP). The Acting Assistant Secretary for Land and Minerals Management approved the ROD on May 30, 2013, which constitutes the final decision of the Department.

ADDRESSES: Copies of the ROD are available for public inspection at the BLM's Colorado River District Office, 2610 Sweetwater Avenue, Lake Havasu City, AZ 86406; Yuma Field Office, 2555 East Gila Ridge Road, Yuma, AZ 85365; and the BLM Arizona State Office, One North Central Avenue, Suite 800, Phoenix, AZ 85004. Interested parties may also review the Final Environmental Impact Statement (Final EIS) at the following Web site: http://www.blm.gov/az/st/en/prog/energy/solar/quartzsite_solar_energy.html.

FOR FURTHER INFORMATION CONTACT: Eddie Arreola, BLM Renewable Energy Coordination Office Supervisor, Arizona State Office, One North Central Avenue, Suite 800, Phoenix, AZ 85004; phone: 602-417-9505; or email: earreola@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Quartzsite Solar Energy LLC, a subsidiary of Solar Reserve LLC, proposes to build the QSEP, a 100-megawatt concentrated solar thermal plant on approximately 1,675 acres of land managed by the BLM. The company applied to the BLM for a ROW to construct, operate, maintain, and decommission the project. The site is located east of State Route 95, approximately 10 miles north of Quartzsite, Arizona. The company also applied to Western Area Power Administration (Western), an agency of the U.S. Department of Energy, to interconnect the project to Western's transmission system. In connection with the project's interconnection request, Western applied to the BLM for a ROW to construct, operate, maintain, and decommission a substation and associated fiber optic or microwave communication facilities.

As required under the National Environmental Policy Act of 1969, as amended, the Final EIS for the QSEP analyzed a No Action alternative and two action alternatives, the Proposed Action, the proposed project with dry-cooling systems, and Alternative 1, the proposed project with a hybrid wet/dry cooling system. The Final EIS also analyzed three alternatives for the amendment to the Yuma Field Office RMP—Alternative 1, the proposed plan amendment with project approval, Alternative 2, the plan amendment with no project approval, and the No-Action Alternative.

The BLM preferred alternative is the proposed action with dry-cooling technology, an amendment to the RMP to re-classify 6,800 acres in and around the QSEP site from Visual Resource Management Class III to Class IV, and Western's proposed switchyard and fiber optic or microwave communication facilities that are ancillary to the interconnection of the QSEP to Western Bouse-Kofa 161-kilovolt transmission line. As described in the Final EIS, the BLM Selected Alternative was developed through the analysis of the resources, cooperating agency involvement, and public involvement. Publication of the Notice of Availability of the Final EIS for the QSEP and Proposed Yuma Field Office RMP Amendment was published in the Federal Register on December 21, 2012 (77 FR 75632), initiated a 30-day protest period on the proposed amendment to the Yuma Field Office RMP, which concluded on March 18, 2013. The BLM received one timely protest which was resolved prior to the execution of the ROD. The protest resolution is summarized in the ROD and addressed in the separate Director's Protest Summary Resolution Report attached to the ROD. The proposed amendment to the Yuma Field Office RMP was not modified as a result of the protest received or the resolution. Simultaneously with the protest period, the Governor of Arizona conducted a consistency review of the proposed Yuma Field Office RMP amendment to identify any inconsistencies with State or local plans, policies, or programs; no inconsistencies were identified by the Governor's Office.

Because this decision is approved by the Acting Assistant Secretary for Land and Minerals Management, it is not subject to administrative appeal (43 CFR 4.410(a)(3)).

Authority: 40 CFR 1506.6.

Neil Kornze,
Principal Deputy Director, Bureau of Land Management.

[FR Doc. 2013-13530 Filed 6-6-13; 8:45 am]

BILLING CODE 4310-32-P